DEPARTMENT OF ENERGY

Federal Energy Regulatory Commission

[Docket No. ER02-851-015, et al.]

Southern Company Services, Inc., et al.; Electric Rate and Corporate Filings

June 17, 2004.

The following filings have been made with the Commission. The filings are listed in ascending order within each docket classification.

1. Southern Company Services, Inc.

[Docket No. ER02-851-015]

Take notice that on June 14, 2004, Southern Company Services, Inc., on behalf of Alabama Power Company, Georgia Power Company, Gulf Power Company, Mississippi Power Company, and Savannah Electric and Power Company (collectively Southern Companies), submitted for filing with the Commission a response to a Commission deficiency letter issued May 12, 2004 in Docket No. ER02-851-010.

Comment Date: July 6, 2004.

2. Virginia Electric and Power Company

[Docket No. ER04-921-000]

Take notice that on June 8, 2004, Virginia Electric and Power Company (Dominion) tendered for filing First Revised Agreement No. 376 under its FERC Electric Tariff Second Revised Volume No. 5, a Network Integration Transmission Service Agreement and Network Operating Agreement between Virginia Electric and Power Company and the North Carolina Electric Membership Corporation (NCEMC). Dominion requests an effective date of June 9, 2004.

Dominion states that copies of the filing were served upon the NCEMC, the North Carolina Utilities Commission and the Virginia State Corporation Commission.

Comment Date: June 29, 2004.

3. Florida Power & Light Company

[Docket No. ER04-926-000]

Take notice that on June 15, 2004, Florida Power & Light Company (FPL) submitted for filing with the Commission a modification to Rate Schedule No. 102, the Contract for Interchange Service between Florida Power & Light Company and Seminole Electric Cooperative, Inc.

FPL states that a copy of this filing has been served on Seminole Electric Cooperative, Inc.

Comment Date: July 7, 2004.

4. Florida Power & Light Company

[Docket No. ER04-927-000]

Take notice that on June 15, 2004, Florida Power & Light Company (FPL) submitted for filing a modification to the Calusa/Charlotte delivery point in the Service Agreement for Network Integration Transmission Service between FPL and Seminole Electric Cooperation, Inc., and a Notice of Cancellation of Rate Schedule No. 194 and Supplement No. 1 to Rate Schedule 194. FPL requests an effective date of March 19, 2004.

FPL states that a copy of this filing has been served on Seminole Electric Cooperative, Inc. and Lee County Electric Cooperative, Inc.

Comment Date: July 6, 2004.

5. American Electric Power Services Corporation

[Docket No. ER04-929-000]

Take notice that on June 15, 2004, American Electric Power Services Corporation (AEPSC) tendered for filing pursuant to section 35.15 of the Commissions regulations, 18 CFR section 35.15, a Notice of Termination of a Compliance Interconnection and Operation Agreement between Indiana Michigan Power Company and South Shore Power, LLC designated as Third Revised Service Agreement No. 521 under American Electric Power's Open Access Transmission Tariff. AEPSC requests an effective date of June 15, 2004.

AEPSC states that a copy of the filing was served upon South Shore Power, LLC and the Indiana Utility Regulatory Commission and Michigan Pubic Service Commission.

Comment Date: July 6, 2004.

6. ISO New England Inc

[Docket No. ER04-930-000]

Take notice that on June 15, 2004, ISO New England Inc. (ISO) tendered for filing under section 205 of the Federal Power Act changes to its Capital Funding Tariff. The ISO requests that the changes to the Capital Funding Tariff be allowed to go into effect on July 15, 2004.

Comment Date: July 6, 2004.

7. Bangor Hydro-Electric Company

[Docket No. ER00-980-009]

Take notice that on June 15, 2004, Bangor-Hydro Electric Company (Bangor Hydro) submitted an informational filing showing the implementation of Bangor Hydro's open access transmission tariff formula rate for the charges that became effective on June 1, 2004, pursuant to section 2.11 of the Settlement Agreement filed on November 1, 2000, in Docket No. ER00-980-000, and accepted and modified by the Commission on February 26, 2001.

Bangor Hydro states that copies of this filing were sent to Bangor Hydro's open access transmission tariff customers, the Commission Trial Staff, the Maine Public Utilities Commission, and the Maine Public Advocate.

Comment Date: July 6, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1414 Filed 6-25-04; 8:45 a.m.]

BILLING CODE 6717-01-P